ENVIRONMENTAL PROTECTION AGENCY

[EPA-HQ-OPP-2010-0012; FRL-8845-4]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before October 25, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 0E7755. (EPA-HQ-OPP-2010-0740). Exigent, LLC, 377 S. Main Street, Yuma, AZ 85367, the U.S. agent on behalf of Quimica Agronomica de Mexico, S. de R.L. MI., Calle 18 N° 20501, Colonia Impulso, C.P. 31183, Chihuahua, Chih., Mexico, proposes to establish tolerance in 40 CFR part 180 for residues of the fungicide oxytetracycline, in or on cucurbits, crop group 9; and fruiting vegetables, crop group 8 at 0.03 parts per million (ppm). An analytical method was developed and used to quantitate residues of oxytetracycline by using liquid chromatography mass spectrometry/mass spectrometry (LC/MS/MS) detection. The limits of quantitation (LOQs), in all matrices, were 0.028 ppm for oxytetracycline (as base). The limit of detection (LOD), in all matrices, was defined as 0.0093 ppm for oxytetracycline, as base (1/3 or LOQ). This method is available for enforcement purposes with a LOD that allows monitoring of food with residues at or above the levels set in these tolerances. Contact: Heather Garvie, (703) 308-0034, e-mail address: garvie.heather@epa.gov.

2. PP 0F7726. (EPA-HQ-OPP-2010-0725). Arysta LifeScience North America, LLC, 15401 Weston Pkwy., Suite 150, Cary, NC 27513, proposes to establish a tolerance in 40 CFR part 180 for residues of the fungicide fluoxastrobin, (1E)-[2-[[6-(2-chlorophenoxy)-5-fluoro-4-pyrimydinyl]oxy]phenyl](5,6-dihydro-1,4,2-dioxazin-3-yl)methanone O-methyloxime, and its Z isomer, (1Z)-[2-[[6-(2-chlorophenoxy)-5-fluoro-4-pyrimydinyl]oxy]phenyl](5,6-dihydro-1,4,2-dioxazin-3-yl)methanone O-methyloxime, in or on raw agricultural commodities listed under crop subgroup 9B - squash/cucumber at 0.5 ppm. Adequate analytical methodology using high performance liquid chromatography/mass spectroscopy/mass spectrometry (HPLC/MS/MS) detection is available for enforcement purposes. Contact: Heather Garvie, (703) 308-0034, e-mail address: garvie.heather@epa.gov.

3. PP 0F7736. (EPA-HQ-OPP-2010-0707). Adorno and Yoss, LLP, 1225 19th Street, NW., Suite 500, Washington, DC 20036-2456 as the U.S. agent on behalf of Productos Químicos y Alimenticios OSKU S.A. (OSKU), 5212 El Guanaco, Huechuraba, Santiago, Chile, proposes to establish a tolerance in 40 CFR part 180 for residues of the fungicide sulfur dioxide (from sodium metabisulfite), in or on blueberry at 10 ppm. An adequate residue analytical method is available for enforcement purposes. The modified Monier-Williams method, which is the official method of analysis approved by the Association of Official Analytical Chemists (AOAC), is listed in 40 CFR Appendix B to part 425. Contact: Rose Mary Kearns, (703) 305-5611, e-mail address: kearns.rosemary@epa.gov.

4. PP 0F7744. (EPA-HQ-OPP-2010-0755). BASF Corporation, 26 Davis Drive, P.O. Box 13528, Research Triangle Park, NC 27709-3528, proposes to establish a tolerance in 40 CFR part 180 for the combined residues of the herbicide saflufenacil (2-chloro-5-[3,6-dihydro-3-methyl-2,6-dioxo-4-(trifluoromethyl)-1(2H)-pyrimidinyl]-4-fluoro-N-[[methyl(1-methylethyl)amino]sulfonyl]benzamide) and its metabolites N-[2-chloro-5-(2,6-dioxo-4-(trifluoromethyl)-3,6-dihydro-1(2H)-pyrimidinyl)-4-fluorobenzoyl]-N′-isopropylsulfamide and N-[4-chloro-2-fluoro-5-({[(isopropylamino)sulfonyl]amino}carbonyl)phenyl]urea, calculated as the stoichiometric equivalent of saflufenacil, in or on oilseeds, cottonseed subgroup 20C, gin by products at 3.5 ppm; oilseeds, cottonseed subgroup 20C, undelinted seed at 0.2 ppm; oilseeds, sunflower subgroup 20B, seed at 1.0 ppm; pea, vines at 8.0 ppm; soybean, aspirated grain fractions at 4.52 ppm; soybean, hulls at 0.42 ppm; soybean, seed at 0.1 ppm; vegetable, legume, subgroup 6C, beans, dry at 0.5 ppm; vegetable, legume, subgroup 6C, peas, dry at 0.1 ppm. Adequate enforcement methodology (LC/MS/MS methods D0603/02 (plants) and L0073/01 (livestock)) is available to enforce the tolerance expression. Contact: Susan Stanton, (703) 305-5218, e-mail address: stanton.susan@epa.gov.

5. PP 0F7766. (EPA-HQ-OPP-2010-0755). BASF Corporation, 26 Davis Drive, P.O. Box 13528, Research Triangle Park, NC 27709-3528, proposes to establish a tolerance in 40 CFR part 180 for the combined residues of the herbicide saflufenacil (2-chloro-5-[3,6-dihydro-3-methyl-2,6-dioxo-4-(trifluoromethyl)-1(2H)-pyrimidinyl]-4-fluoro-N-[[methyl(1-methylethyl)amino]sulfonyl]benzamide) and its metabolites N-[2-chloro-5-(2,6-dioxo-4-(trifluoromethyl)-3,6-dihydro-1(2H)-pyrimidinyl)-4-fluorobenzoyl]-N′-isopropylsulfamide and N-[4-chloro-2-fluoro-5-({l(isopropylamino)sulfonyl)amino}carbonyl)phenyl]urea, calculated as the stoichiometric equivalent of saflufenacil, in or on oilseeds, rapeseed subgroup 20A, seed at 0.8 ppm. Adequate enforcement methodology (LC/MS/MS methods D0603/02 (plants) and L0073/01 (livestock)) is available to enforce the tolerance expression. Contact: Susan Stanton, (703) 305-5218, e-mail address: stanton.susan@epa.gov.

New Tolerance Exemptions

1. PP 0E7727. (EPA-HQ-OPP-2010-0703). Interregional Research Project Number 4 (IR-4) Project Headquarters, Rutgers, The State University of New Jersey, 500 College Road East, Suite 201 W, Princeton, NJ 08450, on behalf of Koppert Biological Systems, Inc., 28465 Beverly Road, Romulus, MI 48174, proposes to establish an exemption from the requirement of a tolerance for residues of lactoperoxidase (CAS No. 9003-99-0) under 40CFR 180.920 in or on all raw agricultural commodities when used pre-harvest as a pesticide inert ingredient in pesticide formulations of the active ingredients potassium iodide and potassium thiocyanate. Since it is proposed that lactoperoxidase be exempt from the requirement for a tolerance, no analytical method is necessary. Contact: Deirdre Sunderland, (703) 603-0851, e-mail address: sunderland.deirdre@epa.gov.

2. PP 0E7753. (EPA-HQ-OPP-2010-0733). The Law Offices of Walter G. Talarek, P.C., 1008 Riva Ridge Drive, Great Falls, VA 22066-1620 as the U. S. agent on behalf of Innospec Limited, Innospec Manufacturing Park, Oil Sites Road, Ellesmere Port, Cheshire CH65 4EY, United Kingdom, proposes to establish an exemption from the requirement of a tolerance for residues of [S,S]-ethylenediamine disuccinic acid tri-sodium salt (hereafter referred to as EDDS) (CAS No. 178949-82-1) under 40 CFR 180.910 when used in accordance with good agricultural practices as a pesticide inert ingredient in pesticide formulations applied to growing crops or to raw agricultural commodities after harvest. An analytical method has not been proposed because EDDS residues harmful to plants and animals is highly unlikely to occur when it is applied as part of the proposed pesticide formulation and according to that formulation's label directions for use. Contact: Alganesh Debesai, (703) 308-8353, e-mail address: debesai.alganesh@epa.gov.

List of Subjects

Environmental protection, Agricultural commodities, Feed additives, Food additives, Pesticides and pests, Reporting and recordkeeping requirements.

Dated: September 16, 2010.
Lois Rossi,
Director, Registration Division, Office of Pesticide Programs.

[FR Doc. 2010-23862 Filed 9-22-10; 8:45 am]

BILLING CODE 6560-50-S